DEPARTMENT OF AGRICULTURE

Forest Service

DEPARTMENT OF THE INTERIOR

Bureau of Land Management

[BLM_UT_FRN_MO4500172883]

Notice of Availability of the Draft Resource Management Plan and Environmental Impact Statement for the Bears Ears National Monument in Utah

AGENCY: Bureau of Land Management, Interior; Forest Service, Agriculture (USDA).

ACTION: Notice of availability.

SUMMARY: In accordance with the National Environmental Policy Act of 1969, as amended (NEPA), and the Federal Land Policy and Management Act of 1976, as amended (FLPMA), the Bureau of Land Management (BLM) and U.S. Department of Agriculture, Forest Service (USDA Forest Service), collectively “the Agencies,” have prepared a Draft Resource Management Plan (RMP) and Draft Environmental Impact Statement (EIS) for the Bears Ears National Monument (BENM or Monument), and by this notice are providing information announcing the opening of the comment period on the Draft RMP/EIS and the comment period on proposed areas of critical environmental concern (ACECs) on lands managed by the BLM and proposed recreational shooting closures. The BLM is leading the NEPA process in partnership with the USDA Forest Service, which will sign a decision for the USDA Forest Service-managed lands based on the analysis in the EIS. The Agencies have and will continue to meaningfully engage the Bears Ears Commission in the development of the RMP and EIS, as required by Proclamation 10285.

DATES: This notice announces the opening of a 90-day comment period for the Draft RMP/EIS beginning with the date following the Environmental Protection Agency's (EPA) publication of its Notice of Availability (NOA) of the Draft RMP/EIS in the Federal Register. The EPA usually publishes its NOAs on Fridays.

To afford the Agencies the opportunity to consider comments in the Proposed RMP/Final EIS, please ensure the Agencies receive your comments prior to the close of the 90-day public comment period or 15 days after the last public meeting, whichever is later.

In addition, this notice announces the opening of a 90-day comment period for proposed recreational shooting closures and a 90-day comment period for proposed ACECs on lands managed by the BLM. The Agencies must receive your comments by June 11, 2024.

The Agencies will hold a total of seven public meetings. Two meetings will be held virtually, and five meetings will be conducted in-person. The specific times and locations of the public meetings will be announced at least 15 days in advance through local media, social media, newspapers, and the ePlanning website (see ADDRESSES).

ADDRESSES: The Draft RMP/EIS is available for review on the BLM ePlanning project website at https://eplanning.blm.gov/eplanning-ui/project/2020347/510.

Written comments related to the BENM Draft RMP/EIS may be submitted by any of the following methods:

• Website: https://eplanning.blm.gov/eplanning-ui/project/2020347/510

• Mail: ATTN: Monument Planning, BLM Monticello Field Office, 365 North Main, Monticello, UT 84535

Documents pertinent to this proposal may be examined online at https://eplanning.blm.gov/eplanning-ui/project/2020347/570 and at the BLM Monticello Field Office, 365 North Main, Monticello, Utah 84535.

FOR FURTHER INFORMATION CONTACT: Jill Stephenson, Project Manager, Bureau of Land Management Canyon Country District, 82 E Dogwood, Moab, Utah, 84532, by phone at 435-587-1529, or email at BLM_UT_Monticello_Monuments@blm.gov. Individuals in the United States who are deaf, deafblind, hard of hearing, or have a speech disability may dial 711 (TTY, TDD, or TeleBraille) to access telecommunications relay services for contacting Ms. Stephenson. Individuals outside the United States should use the relay services offered within their country to make international calls to the point-of-contact in the United States.

SUPPLEMENTARY INFORMATION: This document provides notice that the BLM Utah State Director and Manti-La Sal Forest Supervisor have prepared a Draft RMP/EIS, provides information announcing the opening of the comment period on the Draft RMP/EIS, and announces the comment period on the proposed ACECs and proposed recreational shooting closures. The planning area is located in San Juan County, Utah, and encompasses approximately 1.36 million acres of Federal land.

Management of BENM is currently guided by the 2020 BENM Approved Monument Management Plans, 2008 Monticello Approved RMP, 2008 Moab Approved RMP, and 1986 Manti-La Sal National Forest Land and Resource Management Plan (LRMP), to the extent the management actions in these plans are consistent with Presidential Proclamation 10285 (October 8, 2021).

Purpose and Need for the Planning Effort

The purpose and need serve to frame the identification of issues, alternatives development, and effects analysis. Proclamation 10285 directs the Agencies to “prepare and maintain a new management plan for the entire monument” for the specific purposes of “protecting and restoring the objects identified [in Proclamation 10285] and in Proclamation 9558.”

The RMP's underlying purpose (40 CFR 1502.13) is to provide a management framework—including goals, objectives, and management direction—to guide BENM management consistent with the protection of monument objects and the management direction provided in Proclamation 10285.

The purpose and need for the BENM RMP is aligned with the purpose and need to amend the plan direction and management allocation for the BENM in the Manti-La Sal National Forest LRMP. The proposed programmatic amendment would incorporate the proposed BENM RMP and boundary area into the Manti-La Sal LRMP. The scale of the plan amendment applies to USDA Forest Service lands within the BENM boundary area. The Forest Service Planning Rule at 36 CFR 219.13(b)(2) requires responsible officials to provide notice of which substantive requirements of 36 CFR 219.8 through 219.11 are likely to be directly related to the amendment. Based on the criteria at 36 CFR 219.13(b)(5), the substantive Planning Rule provisions that are likely to be directly related to the proposed amendment of the Manti-La Sal National Forest LRMP are: 36 CFR 219.8 (b) (1), (5), and (6), regarding social and economic sustainability; 36 CFR 219.10 (a)(1), (4), (5), (7), (8), and (10), regarding integrated resource management for multiple use; and 36 CFR 219.10 (b)(1)(ii), (iii), and (vi), regarding cultural and historic resources, areas of Tribal importance, and management of designated areas.

Alternatives Including the Preferred Alternative

The Agencies have analyzed five alternatives in detail, including the no action alternative.

Alternative A, the no action alternative, represents current management from the 2020 BENM Approved Monument Management Plans—which apply to lands that remained in BENM under Proclamation 9681—and to the 2008 Monticello Approved RMP, 2008 Moab Approved RMP, and 1986 Manti-La Sal National Forest LRMP—which apply to the lands that were excluded from BENM under Proclamation 9681—to the extent that those management actions are consistent with Proclamation 10285. In some cases, decisions in the 2008 Monticello Approved RMP, 2008 Moab Approved RMP, and 1986 Manti-La Sal National Forest LRMP are inconsistent with Proclamation 10285; in those instances, Alternative A has been modified to be consistent with Proclamation 10285.

Alternative B would provide the most permissive management for discretionary actions that are compatible with the protection of BENM objects. This alternative would focus on on-site education and interpretation and allow for the development of facilities to protect BENM objects.

Alternative C would allow discretionary actions only if necessary to protect BENM objects. This alternative would focus on off-site education and interpretation and allow for limited development of facilities to protect BENM objects.

Alternative D would allow for the continuation of natural processes by limiting or discontinuing discretionary uses. This alternative would minimize human-created facilities and management and would emphasize natural conditions.

Alternative E would emphasize resource protection and maximize the consideration and use of Tribal perspectives on managing the BENM landscape. This alternative includes consideration of natural processes and seasonal cycles in the management of the BENM, and extensive collaboration with Tribal Nations to incorporate those considerations into the day-to-day management of the Monument.

The Agencies considered five additional alternatives but dismissed these alternatives from detailed analysis as explained in the Draft RMP/EIS.

The State Director and Forest Supervisor have identified Alternative E as the preferred alternative. Alternative E was found to best meet the State Director's and Forest Supervisor's planning guidance and, therefore, was selected as the preferred alternative because it provides goals, objectives, and management direction determined to be effective at protecting monument objects, balancing resource uses, and meeting the purpose and need. The preferred alternative does not constitute a commitment or decision, and there is no requirement to select the preferred alternative in the Records of Decision.

Mitigation

The Draft RMP/EIS identifies, analyzes, and considers best management practices to mitigate the reasonably foreseeable impacts to resources and monument objects. Best management practices may include measures to avoid, minimize, rectify, reduce, or eliminate reasonably foreseeable impacts over time, and may be considered at multiple scales, including the landscape scale.

ACECs

Consistent with the BLM's land use planning regulations at 43 CFR 1610.7-2(b), the BLM is announcing the opening of a 90-day comment period on the ACECs proposed for designation on BLM-managed lands. Comments may be submitted using any of the methods listed in the ADDRESSES section earlier.

The proposed ACECs included in preferred alternative are:

• San Juan River ACEC—approximately 1,485 acres. Designation proposed to protect scenic and cultural resources, fish and wildlife, natural systems and processes, and geologic features. Identified special management would include preserving the natural visual character of the landscape in some portions of the ACEC (Visual Resource Management (VRM) Class I) and retaining the existing visual character of the landscape in other portions of the ACEC in a manner where authorized changes do not attract the attention of the casual observer (VRM Class II); avoiding rights-of-way (ROW) designations in the San Juan Hill Recreation Management Zone; prohibiting permitted/personal use of woodland products, except for limited on-site collection of dead wood for campfires; making the area available for livestock grazing subject to certain timing and management systems; prohibiting camping if cultural, wildlife, and natural processes are negatively impacted; and designating access trails to cultural sites as necessary to protect cultural resources.

• Shay Canyon ACEC—approximately 119 acres. Designation proposed to protect cultural and paleontological resources. Identified special management would include retaining the existing visual character of the landscape in a manner where authorized changes do not attract the attention of the casual observer (VRM Class II); prohibiting permitted/personal use of woodland products; limiting livestock grazing to trailing only; prohibiting campfires, camping, and off-trail hiking; prohibiting Special Recreation Permits (SRP) for competitive events, vending, and motorized, mechanized, and equestrian use; limiting SRP group size to 35 individuals; limiting SRPs to day use only; limiting recreation use if cultural and paleontological resources are negatively impacted; and prohibiting surface disturbing activities for vegetation, watershed, or wildlife treatments/improvements.

• Lavender Mesa ACEC—approximately 649 acres. Designation proposed to protect vegetation resources. Identified special management would include retaining the existing visual character of the landscape in a manner where authorized changes do not attract the attention of the casual observer (VRM Class II); avoiding ROWs; closing the area to OHV use and restricting helicopter access; prohibiting permitted/personal use of woodland products; making the area unavailable for livestock grazing; prohibiting campfires; and protecting vegetation for science and research purposes by limiting land treatments and other improvements (including wildlife habitat improvements and watershed control structures).

• Valley of the Gods ACEC—approximately 22,716 acres. Designation proposed to protect scenic resources. Identified special management would include preserving the natural visual character of the landscape (VRM Class I) (except on 57 acres of highway access portals); excluding ROWs; prohibiting permitted/personal use of woodland products; and prohibiting campfires.

• Indian Creek ACEC—approximately 3,936 acres. Designation proposed to protect scenic resources. Identified special management would include preserving the natural visual character of the landscape (VRM Class I); avoiding ROWs; closing the area to OHV use; prohibiting permitted/personal use of woodland products, except for limited on-site collection of dead wood for campfires; and revegetating with native species where feasible.

• John's Canyon Paleontological ACEC—approximately 11,465 acres. Designation proposed to protect paleontological, cultural, and scenic resources; fish and wildlife; and threatened species. Identified special management would include retaining the existing visual character of the landscape in a manner where authorized changes do not attract the attention of the casual observer (VRM Class II); excluding ROWs; and limiting discretionary actions to those necessary to protect BENM objects.

• Aquifer Protection Area ACEC—approximately 85,856 acres. Designation proposed to protect natural systems/aquifer recharge areas, and scenic, cultural, and paleontological resources. Identified special management would include managing discretionary uses to avoid adversely impacting vegetation communities and ground-water dependent ecosystems; preserving the natural visual character of the landscape in some portions of the ACEC (VRM Class I) and retaining the existing visual character of the landscape in other portions of the ACEC in a manner where authorized changes do not attract the attention of the casual observer (VRM Class II); and requiring hydrologic studies for groundwater withdrawals.

All nominated ACECs are proposed for designation in the preferred alternative.

Dingell Act Proposed Recreational Shooting Closures

In accordance with the John D. Dingell, Jr. Conservation, Management, and Recreation Act of 2019 (Dingell Act, Pub. L. 116-9, Section 4103), the Agencies are announcing the opening of a 90-day public comment period on the proposed recreational shooting closures within the Monument. The preferred alternative would close the entire Monument—approximately 1.36 million acres—to recreational shooting to protect BENM objects, whereas the other alternatives would close portions of the Monument to recreational shooting. Comments may be submitted using any of the methods listed in the ADDRESSES section earlier.

Schedule for the Decision-Making Process

Following this comment period, the Agencies will provide additional opportunities for public participation consistent with the NEPA and land use planning processes, including a 30-day public protest period and a 60-day Governor's consistency review on the Proposed RMP. The Proposed RMP/Final EIS is anticipated to be available for public protest in October 2024 with an Approved RMP and Records of Decision in January 2025. In accordance with 36 CFR 219.59(a), the USDA Forest Service will waive its objections procedures and adopt the BLM's protest procedures.

The Agencies will continue to consult with Indian Tribal Nations on a government-to-government basis in accordance with Executive Order 13175, BLM Manual Section 1780, and other Departmental policies. Tribal concerns, including impacts on Indian trust assets and potential impacts to cultural resources, will be given due consideration. The Agencies will also continue to meaningfully engage with the Bears Ears Commission, as required by Proclamation 10285.

You may submit comments on the Draft RMP/EIS in writing to the Agencies at any public meetings or to the Agencies using one of the methods listed in the ADDRESSES section. To be considered, comments must be received by the end of the 90-day comment period. The ePlanning website (see ADDRESSES) includes background information on BENM and the planning process.

Before including your address, phone number, email address, or other personal identifying information in your comment, you should be aware your entire comment—including your personal identifying information—may be made publicly available at any time. While you can ask us in your comment to withhold your personal identifying information from public review, we cannot guarantee that we will be able to do so.

(Authority: 16 U.S.C. 7913, 36 CFR 219.16, 36 CFR 219.59, 40 CFR 1506.6, 40 CFR 1506.10, 43 CFR 1610.2, 43 CFR 1610.7-2).

Gregory Sheehan,
State Director.
Barbara Van Alstine,
Manti-La Sal Forest Supervisor (Acting).

[FR Doc. 2024-05203 Filed 3-12-24; 8:45 am]

BILLING CODE 4331-25-P